DEPARTMENT OF JUSTICE

Antitrust Division

Notice Pursuant to the National Cooperative Research and Production Act of 1993—Countering Weapons of Mass Destruction

Notice is hereby given that, on October 28, 2021, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Asynchrony Solutions LLC, Saint Louis, MO; Cornerstone Research Group, Inc., Miamisburg, OH; Exponent, Inc., Menlo Park, CA; ManTech Advanced Systems International, Inc., Herndon, VA; Mantel Technologies, Tacoma, WA; Memsel, Inc., Haltom City, TX; Microsoft Corporation, Redmond, WA; Modern Intelligence, Inc., Austin, TX; Ocenco, Inc., Pleasant Prairie, WI; Radiation Detection Technologies, Manhattan, KS; Smart Sensing Solutions, San Pedro, CA; Strike Labs LLC, Fairfield, CT; Texas A&M Engineering Experiment Station, College Station, TX; and Trace-Ability, Inc., Van Nuys, CA have been added as parties to this venture.

Also, Cahaba Micro LLC, Pelham, AL; Gryphon Technologies, Arlington, VA; IMSAR LLC, Springville, UT; PathSensors, Inc., Baltimore, MD; The University of Texas at Dallas, Richardson, TX; and the University of Michigan, Ann Arbor, MI have withdrawn as parties to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on July 1, 2021. A notice was published in the Federal Register pursuant to Section 6(b) of the Act on August 23, 2021 (86 FR 47149).

Suzanne Morris,
Chief, Premerger and Division Statistics, Antitrust Division.

[FR Doc. 2021-25707 Filed 11-23-21; 8:45 am]

BILLING CODE 4410-11-P